DEPARTMENT OF HOMELAND SECURITY

[Docket No. DHS-2024-0029]

Establishment of Independent Panel To Review Actions Relating to the Attempted Assassination of Former President Donald J. Trump

AGENCY: Office of the Secretary, Department of Homeland Security (DHS).

ACTION: Committee management; notice of committee establishment.

SUMMARY: In order to facilitate an effective review of the security provided by the U.S. Secret Service to Former President Donald J. Trump on July 13, 2024, the Department of Homeland Security (Department or DHS) is creating an Independent Review Panel (Panel). Pursuant to the Homeland Security Act of 2002, the Department is taking immediate measures to establish this independent panel of experts to inquire into the planning for and actions taken by the U.S. Secret Service and state and local authorities, before, during, and after the July 13, 2024, attempted assassination of Former President Donald J. Trump at a campaign rally in Butler, Pennsylvania. The Panel will also review the governing policies and procedures and provide findings and recommendations to the Secretary of Homeland Security.

FOR FURTHER INFORMATION CONTACT: Michael J. Miron, Committee Management Officer, Office of Partnership and Engagement, U.S. Department of Homeland Security at reviewpanel@hq.dhs.gov or (202) 343-1673.

SUPPLEMENTARY INFORMATION:

I. Background

At the direction of the President, the Secretary of Homeland Security is establishing an independent review of the tragic events of July 13, 2024, when a now-deceased assailant attempted to assassinate former President Donald J. Trump at a campaign rally in Butler, Pennsylvania, injuring the former President, killing one person attending the rally, and injuring two others, as reported. The Panel will review the planning for and actions taken by U.S. Secret Service and state and local authorities before, during, and after the July 13, 2024 campaign rally, and the governing policies and procedures. The Panel will provide findings and recommendations to the Secretary of Homeland Security. This time-sensitive and important review will entail discussion of classified information.

The Department has recognized in the past that some highly critical issues cannot be discussed in public without jeopardizing the security and confidentiality of sensitive homeland security information. For example, in 2014, the Department established the United States Secret Service Protective Mission Panel (USSSPMP) to review security processes, procedures, and actions taken after a civilian scaled a fence and entered the White House compound on September 19, 2014. See 79 FR 63141 (Oct. 22, 2014). Discussions between the members of the 2014 Panel involved intelligence and law enforcement sensitive information and remain non-public to avoid disclosing protective mission sensitive information to criminals and our nation's enemies, including sensitive law enforcement techniques and methods, and the management of these protective and law enforcement missions of the U.S. Secret Service. Similarly, many of the issues to be reviewed by the Independent Review Panel will require access to, and discussion of, non-public classified information and other non-public law enforcement sensitive information. These matters include protective measures taken by U.S. Secret service, state and local authorities, before, on, or after July 13, 2024.

II. Identifying Solutions

The Department recognizes the importance of the Federal Advisory Committee Act (FACA), 5 U.S.C. Ch. 10. The FACA, when it applies, generally requires advisory committees to meet in open session and make publicly available associated written materials. It also requires a 15-day notice before any meeting may be closed to public attendance. These requirements, however, would prevent the Department from convening on short notice a panel to discuss the sensitive and classified information surrounding the events of July 13, 2024, in an appropriate setting. The FACA contains several exceptions to its general disclosure rules, but the use of those exceptions is not sufficient to address the proper handling of classified material and the protection of law enforcement sensitive information in this unique context. The information that will be discussed and reviewed by this Panel will be deliberative in nature and will involve classified information that, if discussed in public, would result in the unauthorized disclosure of information that could reasonably be expected to result in threats or damage to national security. Furthermore, the information discussed will involve techniques and procedures for law enforcement investigations. The release of this information would enable criminals and enemies to use that information to circumvent the law and could reasonably be expected to endanger the life or physical safety of individuals.

Section 871 of the Homeland Security Act (HSA) provides the Secretary of Homeland Security with the authority to establish advisory committees and exempt them from the FACA. 6 U.S.C. 451(a). This authority allows the Department a forum to freely and completely review the security procedures, to discuss potential vulnerabilities, and to provide the Department with information and recommendations that otherwise could not be discussed.

III. Exercise of Section 871 Authority To Establish the Independent Review Panel

The Department respects the principles of open government and has judiciously exercised the authority Congress provided in Section 871 of the HSA. Given that the use of this authority will allow the Department a forum to fully and completely review the issues and make recommendations surrounding the U.S. Secret Service as described above, the Department is invoking that authority.

Collaboration among the panel members must involve many activities to include planning, coordination, protective security implementation, operational activities related to protective service security measures, vulnerabilities, protective measures, best practices, and lessons learned. An effective panel must be able to have ongoing, immediate, and multidirectional communication and coordination under highly exigent circumstances.

In furtherance of the DHS mission to provide protective services, the public interest requires the establishment of the Panel under the authority of 6 U.S.C. 451. The Panel will review the planning for and actions taken by the U.S. Secret Service and state and local authorities before, during, and after the July 13, 2024 campaign rally, and the governing policies and procedures. The Panel will interact with federal officials and representatives from the security and law enforcement communities. The Panel has no authority to establish Federal policy or otherwise undertake inherently governmental functions.

Exemption from the FACA (Pub. L. 92-463): In recognition of the highly sensitive, and often confidential or classified nature of the subject matter involved in the activities of the Panel, under the authority of section 871 of the Homeland Security Act of 2002 (6 U.S.C. 451), the panel is hereby deemed exempt from the requirements of Public Law 92-463 (5 U.S.C. Ch. 10). The decision to exercise the exemption authority in section 871 will support the free flow of classified and law enforcement sensitive information concerning U.S. Secret Service protective measures and its operations as a law enforcement organization.

The Department, to the fullest extent possible without compromising the protective security or law enforcement missions, will make the factual findings and recommendations of the Panel available to the public.

IV. Membership and Structure

The specific membership of the Panel will consist of individuals with expertise in (a) law enforcement, (b) protective security, (c) homeland security, and (d) other experts as the investigation dictates. The Panel members will be designated by the Secretary. The Panel is tasked with making factual findings and recommendations. The Panel may identify and provide to the Secretary interim recommendations requiring immediate implementation prior to completing the full inquiry. This Notice is not a solicitation for membership.

Membership Status: Non-Federal members of the Panel serve as special government employees.

Meetings: The Panel may meet as a whole or in any combination of subgroups that is most conducive to the effective conduct of its activities including, without limitation, in groups encompassing discrete topics to address specific issues and concerns (e.g., a meeting of the members to discuss security specific issues, or a meeting of leaders of complex organizations). As independent bodies, meetings consisting solely of members of these subgroups shall not constitute meetings of the Panel. In addition, the Panel may establish informal working groups for the purpose of factfinding, issue development, or other preliminary non-deliberative activities. Such activities in support of the Panel shall also be within the scope of the exemption noted above.

Duration of Panel: Six months, subject to extension pursuant to section 871(b) of the Homeland Security Act of 2002 (6 U.S.C. 451(b)).

Alejandro N. Mayorkas,
Secretary, U.S. Department of Homeland Security.

[FR Doc. 2024-16290 Filed 7-22-24; 8:45 am]

BILLING CODE 9112-FP-P